DEPARTMENT OF AGRICULTURE

Forest Service

Revised Land and Resource Management Plan: Kiowa, Rita Blanca, Black Kettle, and McClellan Creek National Grasslands; Oklahoma, Texas, and New Mexico

AGENCY: Forest Service, USDA.

ACTION: Notice of Initiation to revise the Cibola National Forest and Grasslands Land and Resource Management Plan.

SUMMARY: The Forest Service is revising the Land and Resource Management Plan (hereafter referred to as Grasslands Plan) for the Kiowa, Rita Blanca, Black Kettle, and McClellan Creek National Grasslands. This notice describes the documents available for review and how to obtain them; summarizes the need to change the Grasslands Plan; provides information concerning public participation and collaboration, including the process for submitting comments; provides an estimated schedule for the planning process, including the time available for comments; and includes the names and addresses of agency officials who can provide additional information.

DATES: Revision formally begins with publication of this notice in the Federal Register. Many public comments regarding Forest Plan revision have already been received at public meetings and through e-mail, phone calls, and letters. Additional comments on the Comprehensive Evaluation Report (CER) should be submitted by October 31, 2008.

ADDRESSES: Send written comments to: Sara Campney, Cibola National Forest, 2113 Osuna Rd., NE., Albuquerque, NM 87113.

Electronic mail address: comments-grasslandsplan@fs.fed.us.

Web site: http://www.fs.fed.us/r3/cibola/plan-revision/national_grasslands/index.shtml.

Comment form: http://www.fs.fed.us/r3/cibola/plan-revision/national_grasslands/contactus.shtml.

FOR FURTHER INFORMATION CONTACT: Cibola National Forest Planner assistant, Sara Campney phone (505) 346-3886 fax (505) 346-3901.

SUPPLEMENTARY INFORMATION: Documents Available for Review: Three pre-revision documents are available for review on the Cibola National Forest Plan Revision Web site: The Socio-Economic Sustainability Report, the Ecological Sustainability Report, and the CER for the Kiowa, Rita Blanca, Black Kettle, and McClellan Creek National Grasslands. In addition, the final version of the Canadian River Potential Wilderness Area Evaluation (the Evaluation) is also available on the Web site (see Web site address above). Public meetings and a comment period for the Evaluation were held from October 2007 to February 2008. There will be another opportunity to comment on the Evaluation during the 90-day comment period that will follow the publication of the Proposed Plan.

Need for Change: The Grasslands Plan revision needs to:

—Better address the unique, local conditions and historic natural processes of each of the Grassland's ecosystems.

—Include more adaptive management approaches for emerging vegetation issues, such as invasive plants, the effects of climate change, and managing wildland fire in a checkerboard land ownership pattern.

—Evaluate the at-risk species relationships to associated ecosystems on the Grasslands and determine the need for species-specific management direction.

—Identify management strategies that address the recreation opportunities and challenges on the Grasslands and that support the sustainability of local communities.

—Identify areas of high scenic quality and develop management objectives based on the distinguishing features of the Grassland's scenery.

—Use the Travel Analysis Process to assist in developing the long-term goals and objectives that will guide future road designation and maintenance on the Grasslands for administrative and public purposes.

—Evaluate the suitability of the Canadian River Potential Wilderness Area (Mills Canyon) for a Wilderness designation and provide direction that protects the unique features of this area.

—Address the unique management considerations for existing special areas, including eligible Scenic Rivers, Historic Trails and Scenic Byways.

—Address the future impacts and suitability of renewable energy production on and around the Grasslands, particularly wind energy development.

—Provide management direction for oil and gas operations from the drilling and construction phase through site rehabilitation.

Public Participation and Opportunity To Comment

The public is invited to submit comments on the Comprehensive Evaluation Report to the address or electronic mail address listed in the beginning of this announcement. Comments should be submitted by October 31, 2008. Public meetings on the Draft Plan have not yet been scheduled. Only those parties who participate in the planning process through the submission of written comments can submit an objection later in the proposed plan development process pursuant to 36 CFR 219.13(a). Comments received during the planning process, including names and addresses of those who commented, will be part of the public record available for public inspection. The Responsible Official shall accept and consider comments submitted anonymously.

Estimated Schedule

September 2008 to March 2009—Prepare Proposed Plan.

April 2009—Begin collaboration with the public to refine the Proposed Plan.

October 2009—Complete Proposed Plan and begin the formal 90-day comment period.

February 2010—30-day pre-decisional Objection Period.

March 2010—Responsible Official signs Plan Approval Document.

Responsible Official

The Forest Supervisor, Nancy Rose, is the Responsible Official (36 CFR 219.2(b)(1)).

Authority: 36 CFR 219.9(b)(2)(i), 73 FR 21509, April 21, 2008.

Dated: September 12, 2008.
Nancy Rose,
Forest Supervisor.

[FR Doc. E8-22001 Filed 9-18-08; 8:45 am]

BILLING CODE 3410-11-P